DEPARTMENT OF AGRICULTURE

Animal and Plant Health Inspection Service

7 CFR Part 301

[Docket No. APHIS-2008-0111]

Pine Shoot Beetle; Additions to Quarantined Areas

AGENCY: Animal and Plant Health Inspection Service, USDA.

ACTION: Affirmation of interim rule as final rule.

SUMMARY: We are adopting as a final rule, without change, an interim rule that amended the pine shoot beetle (PSB) regulations by adding the entire State of Ohio and counties in Maine and Indiana to the list of quarantined areas following the detection of PSB in those areas. The interim rule was necessary to prevent the spread of PSB, a pest of pine trees, into noninfested areas of the United States.

DATES: Effective on January 10, 2011, we are adopting as a final rule the interim rule published at 74 FR 48003-48005 on September 21, 2009.

FOR FURTHER INFORMATION CONTACT: Dr. Brendon Reardon, National Program Manager, Emergency and Domestic Programs, PPQ, APHIS, 4700 River Road Unit 26, Riverdale, MD 20737-1231; (301) 734-5705.

SUPPLEMENTARY INFORMATION:

Background

Pine shoot beetle (PSB) is a destructive forest pest that attacks both managed and natural stands of pine and especially affects weak and dying trees. The beetle has been found in a variety of pine species (Pinus spp.) in the United States. Scotch pine (P. sylvestris) is the pest's preferred host. PSB has been reported to also occasionally attack other conifers such as fir (Abies spp.) and spruce (Picea spp.) at low levels. During “shoot feeding,” young beetles tunnel into the center of pine shoots (usually those from the current year's growth), causing stunted and distorted growth in host trees. Large infestations of PSB typically kill most of the lateral shoots near the tops of trees. In addition, PSB is a vector of several diseases of pine trees.

The regulations in 7 CFR 301.50 through 301.50-10 (referred to below as the regulations) restrict the interstate movement of certain regulated articles from quarantined areas in order to prevent the spread of PSB into noninfested areas of the United States.

In an interim rule ¹ effective and published in the Federal Register on September 21, 2009 (74 FR 48003-48005, Docket No. APHIS-2008-0111), we amended the regulations by adding the entire State of Ohio and counties in Maine and Indiana to the list of quarantined areas in § 301.50-3(c).

¹ To view the interim rule, go to http://www.regulations.gov/fdmspublic/component/main?main=DocketDetail&d=APHIS-2008-0111.

Comments on the interim rule were required to be received on or before November 20, 2009. We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 74 FR 48003-48005, on September 21, 2009.

Done in Washington, DC, this 4th day of January 2011.
Kevin Shea,
Acting Administrator, Animal and Plant Health Inspection Service.

[FR Doc. 2011-230 Filed 1-7-11; 8:45 am]

BILLING CODE 3410-34-P